DEPARTMENT OF VETERANS AFFAIRS

[OMB Control No. 2900-0695]

Agency Information Collection (Application for Reimbursement of Licensing or Certification Test Fees) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before February 25, 2009.

ADDRESSES: Submit written comments on the collection of information through www.Regulations.gov or to VA's OMB Desk Officer, OMB Human Resources and Housing Branch, New Executive Office Building, Room 10235, Washington, DC 20503 (202) 395-7316. Please refer to “OMB Control No. 2900-0695” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-0695.”

SUPPLEMENTARY INFORMATION: Title: Application for Reimbursement of Licensing or Certification Test Fees, 38 CFR 21.1030(b), 21-7140(c)(4), VA Form 22-0803.

OMB Control Number: 2900-0695.

Type of Review: Revision of a currently approved collection.

Abstract: Claimants complete VA Form 22-0803 to request reimbursement of licensing or certification fees paid.

An agency may not conduct or sponsor, and a person is not required to respond to a collection of information unless it displays a currently valid OMB control number. The Federal Register Notice with a 60-day comment period soliciting comments on this collection of information was published on November 10, 2008, at pages 66691-66692.

Affected Public: Individuals or households.

Estimated Annual Burden: 1,000 hours.

Frequency of Response: On occasion.

Estimated Average Burden per Respondents: 15 minutes.

Estimated Annual Responses: 4,000.

Dated: January 14, 2009.
By direction of the Secretary.
Denise McLamb,
Program Analyst, Enterprise Records Service.

[FR Doc. E9-1579 Filed 1-23-09; 8:45 am]

BILLING CODE 8320-01-P